DEPARTMENT OF HOMELAND SECURITY

Coast Guard

33 CFR Part 96

46 CFR Parts 71, 115, and 176

[Docket No. USCG-2020-0123]

RIN 1625-AC65

Safety Management Systems for Domestic Passenger Vessels

AGENCY: Coast Guard, DHS.

ACTION: Advance notice of proposed rulemaking; correction.

SUMMARY: The Coast Guard is correcting an advance notice of proposed rulemaking (ANPRM) published in the Federal Register of January 15, 2021, seeking public comment on the potential use of Safety Management Systems (SMSs) to improve safety and reduce marine casualties on board U.S.-flagged passenger vessels. The ANPRM contained an incorrect internal cross-reference in the list of questions for the public.

DATES: March 1, 2021.

FOR FURTHER INFORMATION CONTACT: For information about this document, call or email Lieutenant Kimberly Gates, Vessel and Facility Operating Standards Division (CG-OES-2), U.S. Coast Guard; telephone 202-372-1455, email kimberly.m.gates@uscg.mil.

SUPPLEMENTARY INFORMATION: In FR Doc. 2021-01058, beginning on page 3899 in the issue of January 15, 2021, make the following correction in the SUPPLEMENTARY INFORMATION section:

On page 3902 in the third column, in the paragraph for Question 19, replace the text “question 4” with the text “question 6.”

The corrected Question 19 reads as follows: “How would the costs and benefits of expanding other existing regulations, as detailed in question 6, differ from the costs and benefits of requiring SMSs for all passenger vessels?”

Dated: February 19, 2021.
M.T. Cunningham,
Chief, Office of Regulations and Administrative Law, U.S. Coast Guard.

[FR Doc. 2021-04011 Filed 2-26-21; 8:45 am]

BILLING CODE 9110-04-P